DEPARTMENT OF TRANSPORTATION

Federal Aviation Administration

14 CFR Part 95

[Docket No. 31192; Amdt. No. 539]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, May 24, 2018.

FOR FURTHER INFORMATION CONTACT: Thomas J. Nichols, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on April 20, 2018.
John Duncan,
Director, Flight Standards Service.

Adoption of the Amendment

Accordingly, pursuant to the authority delegated to me by the Administrator, part 95 of the Federal Aviation Regulations (14 CFR part 95) is amended as follows effective at 0901 UTC, May 24, 2018.

1. The authority citation for part 95 continues to read as follows:

Authority: 49 U.S.C. 106(g), 40103, 40106, 40113, 40114, 40120, 44502, 44514, 44719, 44721.

2. Part 95 is amended to read as follows:

Revisions to IFR Altitudes and Changeover Point
[Amendment 539 effective date May 24, 2018]
FROM | TO | MEA
§ 95.6001 Victor Routes-U.S.
§ 95.6002 VOR Federal Airway V2 is Amended to Delete
LANSING, MI VORTAC | SALEM, MI VORTAC | *5000
*3000—MOCA
*3000—GNSS MEA
SALEM, MI VORTAC | DELOW, MI FIX | 3000
DELOW, MI FIX | U.S. CANADIAN BORDER | *4000
*2800—MOCA
U.S. CANADIAN BORDER | BUFFALO, NY VOR/DME | *4000
*2400—MOCA
§ 95.6005 VOR Federal Airway V5 is Amended to Delete
APPLETON, OH VORTAC | MANSFIELD, OH VORTAC | 3000
MANSFIELD, OH VORTAC | DRYER, OH VOR/DME | 3000
DRYER, OH VOR/DME | U.S. CANADIAN BORDER | #2500
#FOR THAT AIRSPACE OVER U.S. TERRITORY
§ 95.6006 VOR Federal Airway V6 is Amended by Adding
GIPPER, MI VORTAC | MODEM, IN FIX | *4000
*2600—MOCA
Is Amended to Delete
GIPPER, MI VORTAC | BRYTO, IN FIX X | *3500
*2600—MOCA
BRYTO, IN FIX | PIONS, OH FIX | *4000
*2500—MOCA
PIONS, OH FIX | WATERVILLE, OH VOR/DME | *3300
*2300—MOCA
DRYER, OH VOR/DME | *MOROW, OH FIX | 3100
*5000—MCA MOROW, OH FIX, E BND
MOROW, OH FIX | *HIRES, OH FIX | **5000
*3500—MCA HIRES, OH FIX, W BND
**2700—MOCA
**3000—GNSS MEA
HIRES, OH FIX | YOUNGSTOWN, OH VORTAC | 2900
YOUNGSTOWN, OH VORTAC | MERCY, PA FIX | *5000
*3000—MOCA
*3000—GNSS MEA
MERCY, PA FIX | CLARION, PA VOR/DME | 3600
§ 95.6007 VOR Federal Airway V7 is Amended to Read in Part
DOLPHIN, FL VORTAC | LEE COUNTY, FL VORTAC | 2300
§ 95.6008 VOR Federal Airway V8 is Amended to Delete
FLAG CITY, OH VORTAC | DUSKY, OH FIX | 2600
DUSKY, OH FIX | MANSFIELD, OH VORTAC | 3000
MANSFIELD, OH VORTAC | BRIGGS, OH VOR/DME | 3000
§ 95.6010 VOR Federal Airway V10 is Amended to Delete
LITCHFIELD, MI VOR/DME | *CRUXX, MI FIX | 3000
*7500—MRA
*CRUXX, MI FIX | CARLETON, MI VOR/DME | **6000
*7500—MRA
**2300—MOCA
CARLETON, MI VOR/DME | U.S. CANADIAN BORDER | *3000
*2100—MOCA
U.S. CANADIAN BORDER | AZTRO, OH FIX | *4000
*1800—MOCA
AZTRO, OH FIX | FAILS, OH FIX | *4000
*1800—MOCA
*2300—GNSS MEA
FAILS, OH FIX | WONOP, OH FIX | *3000
*2000—MOCA
WONOP, OH FIX | YOUNGSTOWN, OH VORTAC | *5000
*2700—MOCA
*3000—GNSS MEA
§ 95.6011 VOR Federal Airway V11 is Amended to Delete
EDGEE, OH FIX | PIONS, OH FIX | 4000
PIONS, OH FIX | *HIRED, MI FIX | 6000
*6000—MRA
*HIRED, MI FIX | **CRUXX, MI FIX | 7500
*6000—MRA
**7500—MRA
§ 95.6014 VOR Federal Airway V14 is Amended to Delete
FLAG CITY, OH VORTAC | OBRLN, OH FIX | *3500
*2400—MOCA
OBRLN, OH FIX | DRYER, OH VOR/DME | *3500
*2500—MOCA
DRYER, OH VOR/DME | JEFFERSON, OH VOR/DME | 3500
JEFFERSON, OH VOR/DME | ERIE, PA VORTAC | 2700
§ 95.6026 VOR Federal Airway V26 is Amended to Delete
LANSING, MI VORTAC | SALEM, MI VORTAC | *5000
*3000—GNSS MEA
SALEM, MI VORTAC | DETROIT, MI VOR/DME | 2900
DETROIT, MI VOR/DME | U.S. CANADIAN BORDER | *3400
*2300—MOCA
U.S. CANADIAN BORDER | GEMNI, OH FIX | *3400
*2300—MOCA
GEMNI, OH FIX | DRYER, OH VOR/DME | *3000
*2200—MOCA
§ 95.6030 VOR Federal Airway V30 is Amended to Delete
LITCHFIELD, MI VOR/DME | *HIRED, MI FIX | 3000
*6000—MRA
*HIRED, MI FIX | WATERVILLE, OH VOR/DME | 3000
*6000—MRA
DRYER, OH VOR/DME | AKRON, OH VOR/DME | 3000
AKRON, OH VOR/DME | CAPEL, OH FIX | 3600
CAPEL, OH FIX | VOLAN, PA FIX | *3600
*2800—MOCA
VOLAN, PA FIX | CLARION, PA VOR/DME | 3600
§ 95.6038 VOR Federal Airway V38 is Amended by Adding
FORT WAYNE, IN VORTAC | WINES, OH FIX | 2500
Is Amended to Delete
FORT WAYNE, IN VORTAC | FLAG CITY, OH VORTAC | 2500
FLAG CITY, OH VORTAC | APPLETON, OH VORTAC | 3000
§ 95.6040 VOR Federal Airway V40 is Amended to Delete
DRYER, OH VOR/DME | BRIGGS, OH VOR/DME | 3000
BRIGGS, OH VOR/DME | CUTTA, OH FIX | 3000
§ 95.6043 VOR Federal Airway V43 is Amended to Delete
APPLETON, OH VORTAC | TIVERTON, OH VOR/DME | 3000
TIVERTON, OH VOR/DME | BRIGGS, OH VOR/DME | 3000
BRIGGS, OH VOR/DME | YOUNGSTOWN, OH VORTAC | 3000
ERIE, PA VORTAC | U.S. CANADIAN BORDER
#UNUSABLE
U.S. CANADIAN BORDER | BUFFALO, NY VOR/DME | *4000
*2400—MOCA
§ 95.6045 VOR Federal Airway V45 is Amended to Delete
APPLETON, OH VORTAC | DUSKY, OH FIX | 3000
DUSKY, OH FIX | WATERVILLE, OH VOR/DME | 2600
WATERVILLE, OH VOR/DME | *HIRED, MI FIX | 3000
*6000—MRA
*HIRED, MI FIX | JACKSON, MI VOR/DME | 3000
*6000—MRA
JACKSON, MI VOR/DME | LANSING, MI VORTAC | 3000
LANSING, MI VORTAC | SAGINAW, MI VOR/DME | 2600
§ 95.6047 VOR Federal Airway V47 is Amended to Delete
FLAG CITY, OH VORTAC | WATERVILLE, OH VOR/DME | 2500
§ 95.6059 VOR Federal Airway V59 is Amended to Delete
NEWCOMERSTOWN, OH VOR/DME | BRIGGS, OH VOR/DME | 3000
§ 95.6074 VOR Federal Airway V74 is Amended to Read in Part
FORT SMITH, AR VORTAC | MAGGA, AR FIX
| E BND | 4500
| W BND | 4000
§ 95.6075 VOR Federal Airway V75 is Amended to Delete
BRIGGS, OH VOR/DME | DRYER, OH VOR/DME | 3000
DRYER, OH VOR/DME | U.S. CANADIAN BORDER | #*4000
*2200—MOCA
#FOR THAT AIRSPACE OVER U.S. TERRITORY.
§ 95.6084 VOR Federal Airway V84 is Amended to Delete
LANSING, MI VORTAC | FLINT, MI VORTAC | 2700
§ 95.6092 VOR Federal Airway V92 is Amended to Delete
BEBEE, IL FIX | *NILES, IL FIX | 3400
*3500—MRA
*3000—MCA NILES, IL FIX, N BND
*NILES, IL FIX | CHICAGO HEIGHTS, IL VORTAC | 2500
*3500—MRA
GOSHEN, IN VORTAC | BAGEL, IN FIX | 2700
BAGEL, IN FIX | EDGEE, OH FIX | *3000
*2400—MOCA
EDGEE, OH FIX | WATERVILLE, OH VOR/DME | 3000
WATERVILLE, OH VOR/DME | MANSFIELD, OH VORTAC | 2900
MANSFIELD, OH VORTAC | TIVERTON, OH VOR/DME | 3000
TIVERTON, OH VOR/DME | NEWCOMERSTOWN, OH VOR/DME | 3000
§ 95.6096 VOR Federal Airway V96 is Amended by Adding
FORT WAYNE, IN VORTAC | TWERP, OH FIX | *5000
*2300—MOCA
Is Amended to Delete
FORT WAYNE, IN VORTAC | *ILLIE, OH FIX | **5000
*16000—MCA ILLIE, OH FIX, NE BND
**2300—MOCA
ILLIE, OH FIX | *ANNTS, OH FIX | **16000
*16000—MCA ANNTS, OH FIX, SW BND
**2100—MOCA
ANNTS, OH FIX | DETROIT, MI VOR/DME | *3000
*2100—MOCA
§ 95.6098 VOR Federal Airway V98 is Amended to Delete
DAYTON, OH VOR/DME | HINES, OH FIX | 3000
HINES, OH FIX | *WOCKY, OH FIX | 7000
*7000—MCA WOCKY, OH FIX, S BND
WOCKY, OH FIX | *PIONS, OH FIX | 10000
*10000—MCA PIONS, OH FIX, S BND
PIONS, OH FIX | MIZAR, MI FIX | 3000
§ 95.6103 VOR Federal Airway V103 is Amended to Delete
AKRON, OH VOR/DME | U.S. CANADIAN BORDER | *9000
*2700—MOCA
U.S. CANADIAN BORDER | DETROIT, MI VOR/DME | *4000
*2700—MOCA
DETROIT, MI VOR/DME | PONTIAC, MI VORTAC | *3000
*2400—MOCA
PONTIAC, MI VORTAC | LANSING, MI VORTAC | 3000
§ 95.6116 VOR Federal Airway V116 is Amended to Delete
WILLA, IL FIX | *NEPTS, MI FIX | **4000
*3000—MRA
**1800—MOCA
*NEPTS, MI FIX | KEELER, MI VOR/DME | 2400
*3000—MRA
KEELER, MI VOR/DME | KALAMAZOO, MI VOR/DME | 2600
KALAMAZOO, MI VOR/DME | JACKSON, MI VOR/DME | 2700
JACKSON, MI VOR/DME | SALEM, MI VORTAC | 3000
SALEM, MI VORTAC | U.S. CANADIAN BORDER | #*3000
*2400—MOCA
U.S. CANADIAN BORDER | TRACE, OH FIX | *7000
*1900—MOCA
TRACE, OH FIX | ERIE, PA VORTAC | *3000
*2200—MOCA
§ 95.6126 VOR Federal Airway V126 is Amended by Adding
GOSHEN, IN VORTAC | ILTON, IN FIX | *3000
*2400—MOCA
Is Amended to Delete
GOSHEN, IN VORTAC | BAGEL, IN FIX | 2700
BAGEL, IN FIX | EDGEE, OH FIX | *3000
*2400—MOCA
EDGEE, OH FIX | WATERVILLE, OH VOR/DME | 3000
WATERVILLE, OH VOR/DME | DRYER, OH VOR/DME | 000
DRYER, OH VOR/DME | JEFFERSON, OH VOR/DME | 3000
JEFFERSON, OH VOR/DME | ERIE, PA VORTAC | 2700
§ 95.6133 VOR Federal Airway V133 is Amended to Delete
ZANESVILLE, OH VOR/DME | TIVERTON, OH VOR/DME | 3000
TIVERTON, OH VOR/DME | MANSFIELD, OH VORTAC | 3000
SALEM, MI VORTAC | SAGINAW, MI VOR/DME | 3000
§ 95.6144 VOR Federal Airway V144 is Amended to Read in Part
*BEALL, OH FIX | *MORGANTOWN, WV VORTAC | 4000
*4600—MCA MORGANTOWN, WV VORTAC, SE BND
§ 95.6157 VOR Federal Airway V157 is Amended to Read in Part
*LOTTS, GA FIX | ALLENDALE, SC VOR | **9000
*6000—MRA
**1800—MOCA
**2000—GNSS MEA
§ 95.6159 VOR Federal Airway V159 is Amended to Read in Part
VIRGINIA KEY, FL | VOR/DME *NITNY, FL FIX | 2100
*3000—MCA NITNY, FL FIX, N BND
§ 95.6170 VOR Federal Airway V170 is Amended to Delete
ERIE, PA VORTAC | BRADFORD, PA VOR/DME | *5000
*3900—MOCA
§ 95.6176 VOR Federal Airway V176 is Amended to Delete
CARLETON, MI VOR/DME | U.S. CANADIAN BORDER | *3000
*2100—MOCA
§ 95.6188 VOR Federal Airway V188 is Amended to Delete
CARLETON, MI VOR/DME | U.S. CANADIAN BORDER | *3000
*2100—MOCA
U.S. CANADIAN BORDER | FAILS, OH FIX | *4000
*1800—MOCA
*2300—GNSS MEA
FAILS, OH FIX | WONOP, OH FIX | *3000
*2000—MOCA
WONOP, OH FIX | CLERI, OH FIX | *3000
*2200—MOCA
CLERI, OH FIX | JEFFERSON, OH VOR/DME | *3000
*2400—MOCA
JEFFERSON, OH VOR/DME | TIDIOUTE, PA VORTAC | 3500
§ 95.6210 VOR Federal Airway V210 is Amended to Delete
ROSEWOOD, OH VORTAC | TIVERTON, OH VOR/DME | 3000
TIVERTON, OH VOR/DME | BRIGGS, OH VOR/DME | 3000
BRIGGS, OH VOR/DME | SEING, OH FIX | 3000
SEING, OH FIX | CAPEL, OH FIX | 3600
CAPEL, OH FIX | VOLAN, PA FIX | *3600
*2800—MOCA
VOLAN, PA FIX | TALLS, PA FIX | *5000
*3200—MOCA
*3300—GNSS MEA
TALLS, PA FIX | REVLOC, PA VOR/DME | 4100
§ 95.6221 VOR Federal Airway V221 is Amended by Adding
FORT WAYNE, IN VORTAC | ILTON, IN FIX | 3000
Is Amended to Delete
FORT WAYNE, IN VORTAC | GAREN, IN FIX | 2600
GAREN, IN FIX | LITCHFIELD, MI VOR/DME | 3000
LITCHFIELD, MI VOR/DME | JACKSON, MI VOR/DME | *3000
*2500—MOCA
JACKSON, MI VOR/DME | SALEM, MI VORTAC | 3000
SALEM, MI VORTAC | DELOW, MI FIX | 3000
DELOW, MI FIX | U.S. CANADIAN BORDER | *4000
*2800—MOCA
U.S. CANADIAN BORDER | ERIE, PA VORTAC | #3000
#FOR THAT AIRSPACE OVER U.S. TERRITORY.
§ 95.6232 VOR Federal Airway V232 is Amended to Delete
CHARDON, OH VOR/DME | FRANKLIN, PA VOR | 3300
|  | MAA—15000
FRANKLIN, PA VOR | COOBE, PA FIX | 3500
COOBE, PA FIX | KEATING, PA VORTAC | 4000
§ 95.6233 VOR Federal Airway V233 is Amended to Delete
LITCHFIELD, MI VOR/DME | LANSING, MI VORTAC | 3000
LANSING, MI VORTAC | MOUNT PLEASANT, MI VOR/DME | 3000
§ 95.6275 VOR Federal Airway V275 is Amended to Read in Part
DAYTON, OH VOR/DME | KLOEE, OH FIX | *6000
*2500—MOCA
§ 95.6297 VOR Federal Airway V297 is Amended to Delete
JOHNSTOWN, PA VOR/DME | TALLS, PA FIX | 4400
TALLS, PA FIX | VOLAN, PA FIX | *5000
*3200—MOCA
*3300—GNSS MEA
VOLAN, PA FIX | CAPEL, OH FIX | *3600
*2800—MOCA
CAPEL, OH FIX | AKRON, OH VOR/DME | 3600
AKRON, OH VOR/DME | U.S. CANADIAN BORDER | *6000
*3000—MOCA
§ 95.6353 VOR Federal Airway V353 is Amended to Delete
JACKSON, MI VOR/DME | FLINT, MI VORTAC | 2800
§ 95.6383 VOR Federal Airway V383 is Amended to Delete
ROSEWOOD, OH VORTAC | YOGGI, OH FIX | 3100
YOGGI, OH FIX | *CHOOT, OH FIX | **6500
*6500—MRA
**3100—MOCA
*CHOOT, OH FIX | DETROIT, MI VOR/DME | 3100
*6500—MRA
§ 95.6396 VOR Federal Airway V396 is Amended to Delete
U.S. CANADIAN BORDER | CHARDON, OH VOR/DME | *8000
*2700—MOCA
§ 95.6406 VOR Federal Airway V406 is Amended to Delete
SALEM, MI VORTAC | U.S. CANADIAN BORDER | *4000
*2700—MOCA
§ 95.6416 VOR Federal Airway V416 is Amended to Delete
ROSEWOOD, OH VORTAC | *LAWTO, OH FIX | **4000
*4000—MRA
**2500—MOCA
*LAWTO, OH FIX | MANSFIELD, OH VORTAC | **4000
*4000—MRA
**2500—MOCA
MANSFIELD, OH VORTAC | JAKEE, OH FIX | 3000
§ 95.6418 VOR Federal Airway V418 is Amended to Delete
SALEM, MI VORTAC | BEWEL, OH FIX | #*4000
*2700—MOCA
#FOR THAT AIRSPACE OVER U.S. TERRITORY.
BEWEL, OH FIX | JAMESTOWN, NY VOR/DME | *4000
*3300—MOCA
§ 95.6426 VOR Federal Airway V426 is Amended to Delete
CARLETON, MI VOR/DME | SALFE, OH FIX | *4000
*3000—GNSS MEA
SALFE, OH FIX | AMRST, OH FIX
AMRST, OH FIX | DRYER, OH VOR/DME | *3000
*2200—MOCA
§ 95.6435 VOR Federal Airway V435 is Amended to Delete
ROSEWOOD, OH VORTAC | OBRLN, OH FIX | *6000
*2700—MOCA
OBRLN, OH FIX | DRYER, OH VOR/DME | *3500
*2500—MOCA
§ 95.6443 VOR Federal Airway V443 is Amended to Delete
WISKE, WV FIX | NEWCOMERSTOWN, OH VOR/DME | 3300
NEWCOMERSTOWN, OH VOR/DME | TIVERTON, OH VOR/DME | 3000
TIVERTON, OH VOR/DME | DRYER, OH VOR/DME | 3000
DRYER, OH VOR/DME | FAILS, OH FIX | 2500
FAILS, OH FIX | U.S. CANADIAN BORDER | *3000
*1700—MOCA
§ 95.6450 VOR Federal Airway V450 is Amended to Delete
FLINT, MI VORTAC | KATTY, MI FIX | 3000
KATTY, MI FIX | U.S. CANADIAN BORDER | *4000
*2800—MOCA
§ 95.6464 VOR Federal Airway V464 is Amended to Delete
SALEM, MI VORTAC | U.S. CANADIAN BORDER | 3000
§ 95.6467 VOR Federal Airway V467 is Amended to Delete
RICHMOND, IN VORTAC | WATERVILLE, OH VOR/DME | *10000
*3000—MOCA
WATERVILLE, OH VOR/DME | DETROIT, MI VOR/DME | *3000
*2100—MOCA
§ 95.6486 VOR Federal Airway V486 is Amended to Delete
LEBRN, OH FIX | CHARDON, OH VOR/DME | 3000
CHARDON, OH VOR/DME | ALLCO, PA FIX | 3300
ALLCO, PA FIX | JAMESTOWN, NY VOR/DME | *3700
*3200—MOCA
§ 95.6493 VOR Federal Airway V493 is Amended to Delete
APPLETON, OH VORTAC | DUSKY, OH FIX | 3000
DUSKY, OH FIX | WATERVILLE, OH VOR/DME | 2600
WATERVILLE, OH VOR/DME | CARLETON, MI VOR/DME | *3000
*2200—MOCA
§ 95.6522 VOR Federal Airway V522 is Amended to Delete
DRYER, OH VOR/DME | FAILS, OH FIX | 2500
§ 95.6523 VOR Federal Airway V523 is Amended to Delete
APPLETON, OH VORTAC | TIVERTON, OH VOR/DME | 3000
TIVERTON, OH VOR/DME | AKRON, OH VOR/DME | 3000
AKRON, OH VOR/DME | YOUNGSTOWN, OH VORTAC | 3000
YOUNGSTOWN, OH VORTAC | ERIE, PA VORTAC | *5000
*3000—GNSS MEA
§ 95.6525 VOR Federal Airway V525 is Amended to Delete
APPLETON, OH VORTAC | TIVERTON, OH VOR/DME | 3000
TIVERTON, OH VOR/DME | DRYER, OH VOR/DME | 3000
§ 95.6534 VOR Federal Airway V534 is Amended to Read in Part
SCRAN, AR FIX | FORT SMITH, AR VORTAC
| W BND | *3500
| E BND | *4500
*3000—MOCA
§ 95.6542 VOR Federal Airway V542 is Amended to Delete
ROSEWOOD, OH VORTAC | *LAWTO, OH FIX | 4000
*4000—MRA
*LAWTO, OH FIX | MANSFIELD, OH VORTAC | **4000
*4000—MRA
**2500—MOCA
MANSFIELD, OH VORTAC | AKRON, OH VOR/DME | 3000
AKRON, OH VOR/DME | YOUNGSTOWN, OH VORTAC | *3000
*2600—MOCA
YOUNGSTOWN, OH VORTAC | HAGAR, PA FIX | 3000
HAGAR, PA FIX | TIDIOUTE, PA VORTAC | 3600
§ 95.6573 VOR Federal Airway V573 is Amended to Read in Part
ELMMO, AR FIX | MARKI, AR FIX | *5500
*2600—MOCA
MARKI, AR FIX | HOT SPRINGS, AR VOR/DME
| NE BND | *3500
| SW BND | *5500
*2700—MOCA
§ 95.6584 VOR Federal Airway V584 is Amended to Delete
WATERVILLE, OH VOR/DME | DRYER, OH VOR/DME | *3000
*2200—MOCA
§ 95.6319 Alaska VOR Federal Airway V319 is Amended to Read in Part
JOHNSTONE POINT, AK VOR/DME | EDELE, AK FIX
| E BND | 4400
| W BND | 10000
SNRIS, AK FIX | *ANCHORAGE, AK VOR/DME
| W BND | 8200
| E BND | 10000
*8000—MCA ANCHORAGE, AK VOR/DME, E BND
§ 95.6322 Alaska VOR Federal Airway V322 is Amended to Read in Part
KING SALMON, AK VORTAC | KONIC, AK FIX
| W BND | 5000
| E BND | 9000

AIRWAY SEGMENT: FROM | AIRWAY SEGMENT: TO | CHANGEOVER POINTS: DISTANCE | CHANGEOVER POINTS: FROM
§ 95.8003 VOR Federal Airway Changeover Point is Amended to Delete Changeover Point
APPLETON, OH VORTAC | MANSFIELD, OH VORTAC | 28 | APPLETON.
V6 is Amended to Delete Changeover Point
DRYER, OH VOR/DME | YOUNGSTOWN, OH VORTAC | 39 | DRYER.
YOUNGSTOWN, OH VORTAC | CLARION, PA VOR/DME | 20 | YOUNGSTOWN.
V467 is Amended to Delete Changeover Point
RICHMOND, IN VORTAC | WATERVILLE, OH VOR/DME | 56 | RICHMOND.
V542 is Amended to Delete Changeover Point
YOUNGSTOWN, OH VORTAC | TIDIOUTE, PA VORTAC | 21 | YOUNGSTOWN.

[FR Doc. 2018-08837 Filed 4-26-18; 8:45 am]

BILLING CODE 4910-13-P